DEPARTMENT OF TRANSPORTATION

Maritime Administration

[Docket Number: MARAD-2000-8584]

Requested Administrative Waiver of the Coastwise Trade Laws

AGENCY: Maritime Administration, Department of Transportation.

ACTION: Invitation for public comments on a requested administrative waiver of the Coastwise Trade Laws for the vessel NEELTJE.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before February 1, 2001.

ADDRESSES: Comments should refer to docket number MARAD-2000-8584. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Gordon Angell, U.S. Department of Transportation, Maritime Administration, MAR-832 Room 7201, 400 Seventh Street, S.W., Washington, DC 20590. Telephone 202-366-5129.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD's regulations at 46 CFR Part 388.

Vessel Proposed for Waiver of the U.S.-Build Requirement

(1) Name of vessel and owner for which waiver is requested. Name of vessel: NEELTJE. Owner: Bradley T. Marshall.

(2) Size, capacity and tonnage of vessel. According to the applicant: “L.O.A.—62 feet, L.O.D.—51 feet, Beam—12 feet, Displacement—35 tons.”

(3) Intended use for vessel, including geographic region of intended operation and trade. According to the applicant: “Yacht charters carrying not more than 12 passengers. Mr. Marshall uses the boat primarily for personal pleasure sailing. He intends to engage in occasional charter activity.” Geographic region: “Chesapeake Bay, Delaware River, Intracoastal Waterway from Norfolk, VA through Florida. Note—NEELTJE is suitable for inland waterway use only and will not engage in ocean charters.”

(4) Date and Place of construction and (if applicable) rebuilding. Date of construction: 1902. Place of construction: Waddinxveen, The Netherlands.

(5) A statement on the impact this waiver will have on other commercial passenger vessel operators. According to the applicant: “This waiver will have no direct impact on other commercial vessel operators. This vessel will be used for small yacht charters. There are a large number of small vessels engaged in this type of charter, and the only possible impact would be a very small increase in competition. Most charter customers are very specific in seeking out charter vessels with exactly the characteristics and amenities they desire. NEELTJE is an antique cargo vessel that has been converted into a yacht and as such is unique. There are no other vessels of her type currently in the U.S. The vessel is traditionally rigged and as such is very difficult to sail. The vessel is also slow in light winds (under 12 knots), and will not be to everyone's liking. In fact, those who would be likely to charter a vessel like NEELTJE would be few and would have to have a specialized interest in sailing an antique vessel. The vessel's competitiveness is further limited by her flat-bottom design and absence of a keel, rendering her unsuitable for ocean sailing. As such, the impact NEELTJE would have on the modern yacht charter business would be negligible.”

With regard to the operations of existing operators, there are no other vessels of NEELTJE's type currently in the U.S., although there are many other types of traditional sailing vessels engaged in the charter business in the specific geographic region. There are ample customers for such charter business that the impact on existing operators of the presence of another unique sailing vessel with limited appeal would be negligible.

(6) A statement on the impact this waiver will have on U.S. shipyards. According to the applicant: “The only possible impact would be positive insofar as all future repairs and modifications will be done in U.S. boatyards. Since Mr. Marshall acquired the vessel three years ago he has already spent over $100,000 in U.S. boat repair facilities.”

Dated: December 27, 2000.
By Order of the Maritime Administrator.
Joel C. Richard,
Secretary, Maritime Administration.

[FR Doc. 00-33445 Filed 12-29-00; 8:45 am]

BILLING CODE 4910-81-P